DEPARTMENT OF THE INTERIOR

Bureau of Reclamation

[145R5065C6, RR85818000, RX.59799806.1001001]

Notice To Extend the Public Comment Period for the Collection and Compilation of Water Pipeline Field Performance Data Information Collection Request

AGENCY: Bureau of Reclamation, Interior.

ACTION: Notice.

SUMMARY: The Bureau of Reclamation is announcing a 30-day extension of the public comment period for the Collection and Compilation of Water Pipeline Field Performance Data Information Collection Request (ICR). The current comment period for this ICR ends on October 31, 2014, and is being extended to December 1, 2014. This comment period was reopened through the publication of a Federal Register notice on October 1, 2014 (79 FR 59291).

DATES: Submit comments on this ICR on or before December 1, 2014.

ADDRESSES: Send written comments to Mr. Lee Sears, Materials Engineering Research Laboratory, 86-68180, Bureau of Reclamation, P.O. Box 25007, Denver, CO 80225; or via email at lsears@usbr.gov.

FOR FURTHER INFORMATION CONTACT: Lee Sears at (303) 445-2392.

SUPPLEMENTARY INFORMATION:

Public Disclosure Statement

Before including your address, phone number, email address, or other personal identifying information in your comment, you should be aware that your entire comment—including your personal identifying information—may be made publicly available at any time. While you can ask us in your comment to withhold your personal identifying information from public review, we cannot guarantee that we will be able to do so.

Dated: October 24, 2014.
Richard W. LaFond,
Chief, Civil Engineering Services Division.

[FR Doc. 2014-25799 Filed 10-29-14; 8:45 am]

BILLING CODE 4332-90-P